DEPARTMENT OF ENERGY

Federal Energy Regulatory Commission

[Project No. 2299-082]

Turlock Irrigation District; Modesto Irrigation District; Notice of Environmental Site Review

Take notice that the following hydroelectric applications have been filed with Commission and are available for public inspection:

a. Type of Application: New License.

b. Project No.: 2299-082.

c. Date filed: April 28, 2014.

d. Applicant: Turlock Irrigation District and Modesto Irrigation District.

e. Name of Project: Don Pedro Hydroelectric Project.

f. Location: The existing project is located on the Tuolumne River in Tuolumne County, California. The project would occupy federal land managed by the Bureau of Land Management Sierra Resource Management Unit.

g. Filed Pursuant to: Federal Power Act, 16 U.S.C. 791(a)-825(r).

h. Applicant Contact: Steven Boyd, Director of Water Resources, Turlock Irrigation District, P.O. Box 949, Turlock, California 95381, 209-883-8364 and Greg Dias, Project Manager, Modesto Irrigation District, P.O. Box 4060, Modesto, California 95352, 209-526-7566

i. FERC Contact: Adam Beeco, 202-502-8655 or adam.beeco@ferc.gov.

Environmental Site Review

The applicants and FERC staff will conduct an Environmental Site Review of the recreational facilities associated with the project beginning at 10:00 a.m. on June 17, 2014. The review will consist of visiting Fleming Meadows Recreation Area, Blue Oaks Recreation Area, Moccasin Point Recreation Area, and Ward's Ferry Whitewater Boating Take-Out Facility. All interested individuals, organizations, and agencies are invited to attend. All participants should meet at the Don Pedro Recreation Agency Visitor Center located at 10201 Bonds Flat Road in La Grange, California.

All participants are responsible for their own transportation to and around the site. Anyone with questions about the Environmental Site Review should contact Adam Beeco at 202-502-8655.

Dated: June 2, 2014.
Kimberly D. Bose,
Secretary.

[FR Doc. 2014-13353 Filed 6-6-14; 8:45 am]

BILLING CODE 6717-01-P